DEPARTMENT OF ENERGY

Federal Energy Regulatory Commission

[Docket No. CP09-62-000]

Columbia Gas Transmission, LLC; Notice of Request Under Blanket Authorization

February 11, 2009.

Take notice that on February 9, 2009, Columbia Gas Transmission, LLC (Columbia), having its principal office at 5151 San Felipe, Suite 2500, Houston, Texas 77056, filed a prior notice request pursuant to sections 157.205 and 157.208 of the Commission's regulations under the Natural Gas Act (NGA) for authorization to increase the maximum allowable operating pressure (MAOP), under Columbia's blanket certificate issued in Docket No. CP83-076-000, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, Columbia requests authorization to increase the MAOP of its Line L-2102 from its current 210 psig to a new MAOP of 350 psig and to operate the pipeline at that higher pressure. Line L-2102 consists of approximately 4 miles of 10-inch pipeline beginning at the interconnection of Line-2102 and Line L-2100 and terminating at the interconnection with Line M-48 in Knox County, Ohio. The uprate is requested to allow Columbia Gas of Ohio, Inc. to meet pressure requirements to one of its customers at the Rolls Royce Plant in Mt. Vernon, Ohio. The proposed uprate creates a capacity increase of approximately 11 thousand dekatherms per day (MDth/d). The increase in MAOP will also improve the operating efficiency of the pipeline.

Any questions regarding the application should be directed to James R. Downs, Director of Regulatory Affairs, Columbia Gas Transmission, LLC, 5151 San Felipe Suite 2500 Houston, TX 77056, phone: (713) 267-4759, fax: (713) 267-4755, e-mail: jdowns@nisource.com, or Victoria J. Hamilton, Certificate Lead, Columbia Gas Transmission, LLC, P.O. Box 1273 Charleston, West Virginia 25325, phone: (304) 357-2297, fax: (304) 357-2926, e-mail: vhamilton@nisource.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (http://www.ferc.gov) under the “e-Filing” link.

Kimberly D. Bose,
Secretary.

[FR Doc. E9-3451 Filed 2-18-09; 8:45 am]

BILLING CODE 6717-01-P